ENVIRONMENTAL PROTECTION AGENCY

[OW-2004-0032; FRL-7988-5]

RIN 2040-AE76

Extension of Comment Period for the Preliminary 2006 Effluent Guidelines Program Plan

AGENCY: Environmental Protection Agency (EPA).

ACTION: Extension of comment period.

SUMMARY: EPA is extending the comment period for the Agency's completed 2005 annual review and pending 2006 annual reviews of existing effluent limitations guidelines and pretreatment standards under the Clean Water Act (CWA) sections 301(d), 304(b), 304(g), and 307(b), and the Preliminary 2006 Effluent Guidelines Program Plan under CWA section 304(m). EPA is also extending a second comment period on the draft Strategy for National Clean Water Industrial Regulations (“draft Strategy”) (67 FR 71165; November 29, 2002). EPA noticed the start of these comment periods on August 29, 2005 (70 FR 51042). In response to requests from several stakeholders, this action extends both comment periods for 30 days.

DATES: EPA must receive your comments on or before November 28, 2005.

ADDRESSES: Identify your comments, data and information relating to the Agency's draft Strategy; by Docket ID No. OW-2002-0020. Identify all other comments, data and information relating to the August 29, 2005 notice by Docket ID No. OW-2004-0032. Submit your comments, data and information by one of the following methods:

A. Federal eRulemaking Portal: http://www.regulations.gov. Follow the on-line instructions for submitting comments.

B. Agency Web site: http://www.epa.gov/edocket. EDOCKET, EPA's electronic public docket and comment system, is EPA's preferred method for receiving comments, data, and information. Follow the on-line instructions for submitting comments.

C. E-mail: OW-Docket@epa.gov.

D. Mail: Water Docket, Environmental Protection Agency, Mailcode: 4101T, 1200 Pennsylvania Ave., NW., Washington, DC 20460, Attention Docket ID No. OW-2004-0032. For comments, data, and information on the draft Strategy, use Docket ID No. OW-2002-0020.

E. Hand Delivery: Water Docket, EPA Docket Center, EPA West, Room B102, 1301 Constitution Ave., NW., Washington, DC, Attention Docket ID No. OW-2004-0032. Use Docket ID No. OW-2002-0020 for comments, data, and information on the draft Strategy. Such deliveries are only accepted during the Docket's normal hours of operation, and special arrangements should be made for deliveries of boxed information.

Instructions: Direct your comments, data, and information to Docket ID No. OW-2004-0032. For comments, data, and information on the draft Strategy, use Docket ID No. OW-2002-0020. EPA's policy is that all comments, data, and information received will be included in the public docket without change and may be made available online at http://www.epa.gov/edocket, including any personal information provided, unless the material includes information claimed to be Confidential Business Information (CBI) or other information whose disclosure is restricted by statute. Do not submit through EDOCKET, regulations.gov, or e-mail information that you consider to be CBI or otherwise protected. The EPA EDOCKET and the federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102). For additional instructions on obtaining access to comments, go to section I.B of the SUPPLEMENTARY INFORMATION section of this document.

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Water Docket, EPA/DC, EPA West, Room B102, 1301 Constitution Ave., NW., Washington, DC. The Public Reading Room is open from 8:30 a.m. to 4:30 p.m., Monday through Friday, excluding Federal holidays. The telephone number for the Public Reading Room is (202) 566-1744, and the telephone number for the Water Docket is (202) 566-2426.

FOR FURTHER INFORMATION CONTACT: Mr. Carey A. Johnston at (202) 566-1014 or johnston.carey@epa.gov, or Ms. Jan Matuszko at (202) 566-1035 or matuszko.jan@epa.gov.

SUPPLEMENTARY INFORMATION: On August 29, 2005 (70 FR 51042), EPA solicited comment on the Agency's completed 2005 annual review and pending 2006 annual reviews of existing effluent limitations guidelines and pretreatment standards under CWA sections 301(d), 304(b), 304(g), and 307(b), and the Preliminary 2006 Effluent Guidelines Program Plan under CWA section 304(m). EPA also opened a second comment period on the draft Strategy for National Clean Water Industrial Regulations (“draft Strategy”) (see 67 FR 71165, November 29, 2002). The August 29, 2005 notice describes: (1) The Agency's 2005 annual review of existing effluent limitations guidelines and pretreatment standards under the Clean Water Act (CWA) sections 301(d), 304(b), 304(g), and 307(b); (2) EPA's review of indirect dischargers without categorical pretreatment standards to identify potential new categories for pretreatment standards under CWA sections 304(g) and 307(b); and (3) the preliminary 2006 effluent guidelines program plan under CWA section 304(m) (“Plan”). EPA anticipates completing the final 2006 Plan by August 2006. As required by CWA section 304(m), the final Plan will: (1) Present a schedule for EPA's annual review of existing effluent guidelines under CWA section 304(b) and a schedule for any effluent guidelines revisions; and (2) identify industries for which EPA has not promulgated effluent guidelines but may decide to do so through rulemaking and a schedule for these rulemakings.

The original comment deadline was October 28, 2005. Numerous stakeholders have requested an extension to the comment period in order to adequately understand and provide comments. Additionally, one commenter requested more time due to the difficulty of coordinating with Gulf Coast facilities that were recently incapacitated by hurricanes Rita and Katrina. This action extends the comment period for 30 days.

Dated: October 20, 2005.
Benjamin H. Grumbles,
Assistant Administrator for Water.

[FR Doc. 05-21367 Filed 10-25-05; 8:45 am]

BILLING CODE 6560-50-P